NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755) (Hybrid Meeting).

Date and Time: September 20, 2023, 12:30 p.m.-5:00 p.m. MT, September 21, 2023, 9:00 a.m.-5:00 p.m. MT, September 22, 2023, 9:00 a.m.-12:30 p.m. MT.

Place: National Center for Atmospheric Research, 1850 Table Mesa Drive, Boulder, CO 80305; In-person and Virtual via Zoom.

Registration for the meeting will be available prior to the meeting date. Both the agenda and the registration link will be located on the GEO AC website at: https://www.nsf.gov/geo/advisory.jsp.

Type of Meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean, and polar sciences.

Agenda:

September 20, 2023

• Meeting with the Chief Operating Officer, NSF

• Panel: Report on Sexual Assault/Harassment Prevention and Response (SAHPR)

• Presentation on Research Security Issues

September 21, 2023

• NSF Facilities Overview

• GEO Facilities Discussion and Breakout Groups

• Review of OCE Science Programs COV Report and Response

• Science Advisory Subcommittee Report on Antarctic Research Vessel

September 22, 2023

• Tour of NCAR Research Aviation Facility

• GEO Division Discussions

Dated: August 8, 2023.
Crystal Robinson,
Committee Management Officer.

[FR Doc. 2023-17275 Filed 8-10-23; 8:45 am]

BILLING CODE 7555-01-P